DEPARTMENT OF COMMERCE

International Trade Administration

[A-588-854]

Certain Tin Mill Products From Japan: Final Results of the Expedited Fourth Sunset Review of the Antidumping Duty Order

AGENCY: Enforcement and Compliance, International Trade Administration, Department of Commerce.

SUMMARY: As a result of this expedited sunset review, the U.S. Department of Commerce (Commerce) finds that revocation of the antidumping duty (AD) order on certain tin mill products (tin mill products) from Japan would likely lead to the continuation or recurrence of dumping at the levels indicated in the “Final Results of Sunset Review” section of this notice.

DATES: Applicable October 5, 2023.

FOR FURTHER INFORMATION CONTACT: Preston Cox, AD/CVD Operations, Office VI, Enforcement and Compliance, International Trade Administration, U.S. Department of Commerce, 1401 Constitution Avenue NW, Washington, DC 20230; telephone: (202) 482-5041.

SUPPLEMENTARY INFORMATION:

Background

On August 28, 2000, Commerce published in the Federal Register the AD order on tin mill products from Japan.¹ On June 1, 2023, Commerce published the notice of initiation of the fourth sunset review of the Order, pursuant to section 751(c) of the Tariff Act of 1930, as amended (the Act).²

¹ See Certain Tin Mill Products from Japan: Notice of Antidumping Duty Order, 65 FR 52067 (August 28, 2000) (Order).

² See Initiation of Five-Year (Sunset) Reviews, 88 FR 35832 (June 1, 2023).

On June 16, 2023, Commerce received notices of intent to participate in this review from Cleveland-Cliffs Inc. (Cleveland-Cliffs) and United States Steel Corporation (U.S. Steel) within the deadline specified in 19 CFR 351.218(d)(1)(i).³ Cleveland-Cliffs and U.S. Steel claimed interested party status under section 771(9)(C) of the Act, as producers of the domestic like product in the United States. On June 30 and July 3, 2023, we received adequate substantive responses from Cleveland-Cliffs and U.S. Steel, respectively, within the 30-day deadline specified in 19 CFR 351.218(d)(3)(i).⁴ We received no substantive responses from respondent interested parties. Therefore, Commerce notified the U.S. International Trade Commission that it did not receive an adequate substantive response from respondent interested parties.⁵ As a result, pursuant to section 751(c)(3)(B) of the Act and 19 CFR 351.218(e)(1)(ii)(C)(2), Commerce conducted an expedited (120-day) sunset review of the Order.

³ See Cleveland-Cliff's Letter, “Notice of Intent to Participate in Sunset Review,” dated June 16, 2023; see also U.S. Steel's Letter, “Notice of Intent to Participate,” dated June 16, 2023.

⁴ See Cleveland-Cliff's Letter, “Domestic Industry Substantive Response,” dated June 30, 2023; see also U.S. Steel's Letter, “U.S. Steel's Substantive Response to Commerce's Notice of Initiation,” dated July 3, 2023.

⁵ See Commerce's Letter, “Sunset Reviews Initiated on June 1, 2023,” dated July 25, 2023.

Scope of the Order

The merchandise covered by the Order is tin mill products. For a complete description of the scope of the Order, see the Issues and Decision Memorandum.⁶

⁶ See Memorandum, “Issues and Decision Memorandum for the Final Results of the Expedited Fourth Sunset Review of the Antidumping Duty Order on Certain Tin Mill Products from Japan,” dated concurrently with, and hereby adopted by, this notice (Issues and Decision Memorandum).

Analysis of Comments Received

A complete discussion of all issues raised in this sunset review is contained in the accompanying Issues and Decision Memorandum.⁷ A list of topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://access.trade.gov/public/FRNoticesListLayout.aspx.

⁷ See generally Issues and Decision Memorandum.

Final Results of Sunset Review

Pursuant to sections 751(c)(1) and 752(c)(1) and (3) of the Act, Commerce determines that revocation of the Order would likely lead to the continuation or recurrence of dumping and that the magnitude of the dumping margins likely to prevail would be weighted-average margins up to 95.29 percent.⁸

⁸ Id. at 9.

Notification Regarding Administrative Protective Orders

This notice serves as the only reminder to interested parties subject to an administrative protective order (APO) of their responsibility concerning the disposition of proprietary information disclosed under APO in accordance with 19 CFR 351.305. Timely notification of the return or destruction of APO materials or conversion to judicial protective order is hereby requested. Failure to comply with the regulations and terms of an APO is a violation which is subject to sanction.

Notification to Interested Parties

We are issuing and publishing these final results in accordance with sections 751(c), 752(c), and 777(i)(1) of the Act and 19 CFR 351.218.

Dated: September 28, 2023.
Lisa W. Wang,
Assistant Secretary for Enforcement and Compliance.

Appendix—List of Topics Discussed in the Issues and Decision Memorandum

I. Summary

II. Background

III. Scope of the Order

IV. History of the Order

V. Legal Framework

VI. Discussion of the Issues

1. Likelihood of Continuation or Recurrence of Dumping

2. Magnitude of the Margins Likely to Prevail

VII. Final Results of Sunset Review

VIII. Recommendation

[FR Doc. 2023-22127 Filed 10-4-23; 8:45 am]

BILLING CODE 3510-DS-P